ENVIRONMENTAL PROTECTION AGENCY

[FRL-7555-8 ]

Science Advisory Board Staff Office; Announcement of a New Ecological Effects Subcommittee of the Advisory Council on Clean Air Compliance Analysis, a Request for Nominations, and a Request for Comments on the “Short List” Candidates

AGENCY: Environmental Protection Agency (EPA).

ACTION: Notice.

SUMMARY: The Environmental Protection Agency (EPA) Science Advisory Board (SAB) Staff Office announces the formation of a new subcommittee of the Advisory Council on Clean Air Compliance Analysis (Council), requests nominations of candidates, and requests for comments on the proposed candidates for the “Short List”. The Subcommittee will assist the Council in providing advice to the Agency regarding assessments of ecological effects related to the impacts of implementing the Clean Air Act (CAA). The new subcommittee, for which the SAB Staff Office is soliciting nominations, will be called the Ecological Effects Subcommittee (EES).

DATES: Nominations should be submitted no later than September 19, 2003.

Comments on the current or revised “Short List” candidates should be submitted no later than September 29, 2003.

ADDRESSES: Nominations should be submitted in electronic format through the Form for Nominating Individuals to Panels of the EPA Science Advisory Board provided on the SAB Web site. The form can be accessed through a link on the blue navigational bar on the SAB Web site, http://www.epa.gov/sab. To be considered, all nominations must include the information required on that form. Anyone who is unable to submit nominations via this form may contact Dr. Angela Nugent, Designated Federal Officer (DFO), as indicated below. Information on experts also listed as “Short List” candidates, as described below, should also be submitted to Dr. Nugent.

FOR FURTHER INFORMATION CONTACT: Any member of the public wishing further information regarding this notice may contact Dr. Angela Nugent, (DFO), U.S. EPA Science Advisory Board, 1200 Pennsylvania Avenue, NW., (1400A), Washington, DC 20460; by telephone/voice mail at (202) 564-4562, by fax at (202) 501-0323; or via e-mail at nugent.angela@epa.gov.

SUPPLEMENTARY INFORMATION: Summary: The EPA SAB Staff Office is announcing the formation of a new Subcommittee, the EES of the Council and is soliciting nominations for members. The Subcommittee will assist the Council in providing advice to the Agency on characterizing ecological effects related to the Agency's analyses required under section 312 of the Clean Air Act (CAA) of the impacts of the CAA on the public health, economy, and environment of the United States. The Council is a separately chartered Federal advisory committee Federal Advisory Committee Act (FACA), as amended (5 U.S.C. App.).

Background: In the past, the Council has relied on a Subcommittee called the Health and Ecological Effects Subcommittee (HEES) to provide advice on assessments of both health and ecological effects used in such analyses. On February 14, 2003, the SAB Staff Office published a Federal Register notice (68 FR 7531-7534), requesting nominations for the HEES as well as for another Subcommittee of the Council, the Air Quality Modeling Subcommittee, and for additional expertise needed for the Council itself. Background on the history and mandate given to the Council may be found in the referenced Federal Register notice.

On May 29, 2003, the SAB Staff Office published on the SAB website a Memorandum entitled “US EPA Science Advisory Board (SAB) Staff Office's Selection of Experts to Augment the Expertise of the Advisory Council on Clean Air Compliance Analysis to form a Special Council Panel for the Review of the Third 812 Analysis, the Air Quality Modeling Subcommittee, and the Health Effects Subcommittee” (see http://www.epa.gov/science1/pdf/councilpanelselectionmemo.pdf) In that memorandum, the Staff Office described its decision to focus the HEES on health effects and to rename it the “Health Effects Subcommittee” (HES).

The SAB Staff Office made the decision regarding the HES and the decision to establish the EES because of the importance of ecological issues to the Council, which noted in its most recent report, Review of the Draft Analytical Plan for EPA's Second Prospective Analysis—Benefits and Costs of the Clean Air Act 1990-2020, EPA-SAB-COUNCIL-ADV-01-004, that a “major effort” was needed “to develop credible methods to quantify and monetize the effects of marginal changes in air pollution on ecosystem processes' and to include non-market ecosystem services in future reports.

The general charge to the EES will be to assist the Council in: (a) Reviewing data to be used for any analysis of ecological effects required under section 312 of the CAA; (b) reviewing the methodology used to analyze such data and make recommendations on the use of such methodology; and (c) prior to the issuance of a report to Congress required under section 312 of the CAA, reviewing the findings of the report and make recommendations concerning the validity and utility of such findings. Members of the EES will provide advice to the Agency, through the council, over a two-year period.

The initial charge questions to be addressed by the EES related to the Agency's draft analytical plan are identified below. Expertise needed to address these questions and to meet the general charge to the EES identified in the paragraph immediately above are identified below under the heading “SAB Staff Office Request for Nominations.”

Subsequent to the publication of the Federal Register notice referenced above, the SAB Staff Office issued another request for nominations on a related but separate advisory topic. This request was entitled “Science Advisory Board; Request for Nominations for Experts for a Panel on Valuing the Protection of Ecological Systems and Services' (68 FR 11082-11084, March 7, 2003). The charge to this new Committee is to assess Agency needs and the state of the art and science of valuing protection of ecological systems and services, and then to identify key areas for improving knowledge, methodologies, practice, and research. This charge includes many of the kinds of issues discussed in the Council Advisory Report for the Agency as a whole. SAB Staff Office decisions relating to the formation of this advisory group, were documented in a memorandum, “US EPA Science Advisory Board (SAB) Committee on Valuing the Protection of Ecological Systems and Services: Description of Process for Forming the Committee,” dated August 11, 2003 and posted on the SAB Web site at http://www.epa.gov/science1/panels/vpesspanel.html. The Memorandum identifies the members of the Committee, who were selected from a “Short List” of 44 experts chosen from the nearly 150 experts nominated through the SAB Staff Office nomination process announced in the March 7, 2003, Federal Register notice.

The SAB Staff Office is issuing this notice in light of three considerations: (1) The February 14, 2003, Federal Register Request for Nominations for the Council and its subcommittees already included a request for nominees with expertise in ecosystem effects related to air pollution; (2) the “Short List” of experts resulting from the March 7, 2003, Federal Register Request for Nominations that led to the formation of the Committee on Valuing the Protection of Ecological Systems and Services already included ecologists with expertise appropriate for the EES; and (3) the “Short List” of ecological scientists resulting from the March 7, 2003, Federal Register notice included the two ecologists identified in response to the February 14, 2003, call. Considering the experts already identified, the SAB Staff Office will derive an initial “Short List” for the EES from the experts in ecology identified from the two previous requests for nominations and is providing the public with a brief final opportunity to provide additional nominations before the EES is formed. The candidates on this initial “Short List” will be posted on the SAB Web site at http://www.epa.gov/science1/panels/scpanel812heesaqms.htm.

Initial Charge Questions for the EES: The two initial charge questions to be addressed by the EES relate to the Agency's review document “Benefits and Costs of the Clean Air Act 1990—2020: Revised Analytical Plan For EPA's Second Prospective Analysis'and are identified below:

A. Does the Council support the plans described in chapter 7 for (a) qualitative characterization of the ecological effects of Clean Air Act-related air pollutants, (b) an expanded literature review, and (c) a quantitative, ecosystem-level case study of ecological service flow benefits? If there are particular elements of these plans which the Council does not support, are there alternative data or methods the Council recommends?

2. Initial plans described in chapter 7 reflect a preliminary EPA decision to base the ecological benefits case study on Waquoit Bay in Massachusetts. Does the Council support these plans? If the Council does not support these specific plans, are there alternative case study designs the Council recommends?

Document Availability: Links to EPA's past studies of the costs and benefits of the CAA, and to review material for the Council and its Subcommittees can be found at the following Web site, maintained by EPA's Office of Air and Radiation at: http://www.epa.gov/oar/sect812/. A link to the review document “Benefits and Costs of the Clean Air Act 1990-2020: Revised Analytical Plan For EPA's Second Prospective Analysis' can be found at http://www.epa.gov/air/sect812/mainbody51203.pdf.

SAB Staff Office Request for Nominations: Any interested person or organization may nominate qualified individuals for membership on the EES. Individuals should have expertise in one or more of the following areas: (a) Ecosystem Effects Related to Air Pollution, and (b) Assessment of Ecological Effects for Benefits Analyses.

Process and Deadline for Submitting Nominations or for Submitting Information: Any interested person or organization may nominate qualified individuals to serve as subcommittee members in the areas described above. The nominating form requests contact information about the person making the nomination; contact information about the nominee; the disciplinary and specific areas of expertise of the nominee; the nominee's resume; and a general biosketch of the nominee indicating education, expertise, past research, recent service on other advisory committees or with professional associations, and recent grant and/or contract support.

Anyone who is unable to submit nominations through the SAB website, or has questions concerning any aspect of the nomination process, may contact Dr. Angela Nugent as indicated above in this FR notice. Nominations should be submitted in time to arrive no later than September 19, 2003.

The EPA Science Advisory Board Staff Office will acknowledge receipt of any nominations received. From the nominees identified by respondents to this Federal Register notice and through other sources (termed the “Widecast”), SAB Staff Office will determine whether individuals will need to be added to the existing “Short List” of candidates to be considered for the EES. Criteria used by the SAB Staff Office in developing this “Short List” are given at the end of the following paragraph. The SAB Staff Office will contact individuals who are considered for inclusion in the “Short List” to determine whether they are willing to serve on the Subcommittee. Any revisions to the “Short List” will be posted on the SAB Web site at: http://www.epa.gov/sab, and will include, for each candidate, the nominee's name and their biosketch. The revised “Short List” also will be available from Dr. Nugent at the address listed above.

The public is requested to provide to the DFO information, documentation, or analysis about individuals listed on the “Short List” of candidates for the EES posted on the SAB Web site. The SAB Staff Office will consider this information in making the selection of subcommittee members. The public is requested also to provide additional nominations for the Subcommittee following the procedures identified below.

For the EPA SAB, a balanced committee, subcommittee, or panel is characterized by inclusion of candidates who possess the necessary domains of knowledge, the relevant scientific perspectives (which, among other factors, can be influenced by work history and affiliation), and the collective breadth of experience to adequately address the charge. Public responses to the “Short List” candidates will be considered in the selection of the Subcommittee members, along with information provided by candidates and information gathered by EPA SAB Staff Office independently on the background of each candidate (e.g., financial disclosure information and computer searches to evaluate a nominee's prior involvement with the topic under review). Specific criteria to be used in evaluating individual nominees include: (a) Scientific and/or technical expertise, knowledge, and experience (primary factors); (b) absence of financial conflicts of interest; (c) scientific credibility and impartiality; (d) availability and willingness to serve; and (e) ability to work constructively and effectively in committees.

Those “Short List” candidates ultimately chosen to serve on the Subcommittee will be appointed as Special Government Employees. Therefore, all “Short List” candidates will be required to fill out the “Confidential Financial Disclosure Form for Special Government Employees Serving on Federal Advisory Committees at the U.S. Environmental Protection Agency” (EPA Form 3110-48). This confidential form allows Government officials to determine whether there is a statutory conflict between that person's public responsibilities as a Special Government Employee and private interests and activities, or the appearance of a lack of impartiality, as defined by Federal regulation. The form may be viewed and downloaded from the following URL address: http://www.epa.gov/sab/pdf/epaform3110-48.pdf.

Dated: August 27, 2003.
Vanessa T. Vu,
Director, EPA Science Advisory Board Staff Office.

[FR Doc. 03-22933 Filed 9-8-03; 8:45 am]

BILLING CODE 6560-50-P